DEPARTMENT OF THE INTERIOR

National Park Service

National Register of Historic Places; Weekly Listing of Historic Properties

Pursuant to (36 CFR 60.13(b,c)) and (36 CFR 63.5), this notice, through publication of the information included herein, is to appraise the public as well as governmental agencies, associations and all other organizations and individuals interested in historic preservation, of the properties added to, or determined eligible for listing in, the National Register of Historic Places from November 9 to November 14, 2008.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: December 15, 2008.
J. Paul Loether,
Chief, National Register of Historic Places, National Historic Landmarks Program.

KEY: State, County, Property Name, Address/Boundary, City, Vicinity, Reference Number, NHL, Action, Date, Multiple Name

ARKANSAS

Cross County

New Hope School, 3762 Hwy. 284, Wynne vicinity, 08001037, Listed, 11/12/08.

Pulaski County

East End Methodist Episcopal Church, 2401 E. Washington Ave., North Little Rock, 08001038, Listed, 11/12/08.

CALIFORNIA

Los Angeles County

Pasadena Arroyo Parks and Recreation District, Roughly bounded by the Foothill Freeway on the north, the city limits on the south, Arroyo Blvd on east, San Rafael, Pasadena, 08000579, Listed, 11/10/08.

DISTRICT OF COLUMBIA

District of Columbia State Equivalent

Bulletin Building, 717 6th St., NW., Washington, 07000422, Listed, 11/12/08.

Petworth Gardens, 124, 126, 128, and 130 Webster St., NW., Washington DC, 08001029, Listed, 11/10/08. (Apartment Buildings in Washington, DC, MPS).

FLORIDA

Dade County

Normandy Isles Historic District, Roughly by Normandy Shores Golf Course, Indian Creek, Biscayne Bay, Rue Versailles, 71st., Rue Notre Dame, Miami Beach, 08001041, Listed, 11/12/08. (North Beach Community (1919-1963), MPS).

Martin County

Cypress Lodge, 18681 SW. Conners Hwy., Port Mayaca, 08001040, Listed, 11/12/08.

IOWA

Hancock County

Avery Theater, the, 495 State St., Garner, 08001043, Listed, 11/12/08.

MARYLAND

Worcester County

Makemie Memorial Presbyterian Church, 103 Market St., Snow Hill, 08001044, Listed, 11/10/08.

MISSISSIPPI

Leflore County

Greenwood Underpass, Main St. Between Jackson St. and W. Taft St., Greenwood, 08001045, Determined Eligible, 11/12/08.

Madison County

Young House, 3463 N. Liberty St., Canton, 08001046, Listed, 11/10/08.

NEW HAMPSHIRE

Merrimack County

Old North Cemetery, North State St., Concord, 08001031, Listed, 11/09/08.

NEW YORK

Greene County

Tannersville Main Street Historic District, 5898-6144 Main St., 10 Spring St., Tannersville, 08001047, Listed, 11/14/08.

New York County

General Society of Mechanics and Tradesmen, 20 w. 44th St., New York, 08001048, Listed, 11/12/08.

OREGON

Linn County

Albany Monteith Historic District (Boundary Increase), Elm St. SW to Calapooia and 19th Ave. SW to 11th and 12th aves. SW., Albany, 08001017, Listed, 11/13/08.

TENNESSEE

Bledsoe County

Bledsoe County Jail, 128 Frazier St., Pikeville, 08001049, Listed, 11/12/08.

VIRGINIA

Charlotte County

Keysville Railroad Station, Railroad Ave., Keysville, 08001050, Listed, 11/12/08.

Fauquier County

Cromwell's Run Rural Historic District (Boundary Increase), Bounded by Fauquier County Line on the N., Existing Cromwell's Run Rural Historic District on the E., Atoka Vicinity, 08001051, Listed, 11/12/08.

Fredericksburg Independent City

Rowe House, 801 Hanover St., Fredericksburg Vicinity, 08001052, Listed, 11/12/08.

Galax Independent City

Galax Commercial Historic District (Boundary Increase), 107 West Oldtown St., Galax, 08001053, Listed, 11/12/08.

Lynchburg Independent City

Kemper Street Industrial Historic District, 1300-1500 (Odd) Kemper St., 1200-1300 (Even) Campbell Ave., Lynchburg, 08001054, Listed, 11/14/08.

Prince William County

Camp French, Address Restricted, Marine Corps Base, Quantico, 08001055, Listed, 11/12/08. (Campaigns for the Control of Navigation on the Lower Potomac River, 1861-1862, Virginia, Maryland, and DC, MPS).

Prince William County

Rising Hill Camp, Address Restricted, Marine Corps Base, Quantico Vicinity, 08001057, Listed, 11/12/08. (Campaigns for the Control of Navigation on the Lower Potomac River, 1861-1862, Virginia, Maryland, and DC, MPS).

Southampton County

Beaton-Powell House, 32142 South Main St., Boykins, 08001058, Listed, 11/14/08.

Stafford County

Tennessee Camp, Address Restricted, Marine Corps Base, Quantico Vicinity, 08001059, Listed, 11/12/08. (Campaigns for the Control of Navigation on the Lower Potomac River, 1861-1862, Virginia, Maryland, and DC, MPS).

WISCONSIN

Wood County

Roddis, Hamilton and Catherine, House, 1108 E. 4th St., Marshfield, 08001060, Listed, 11/12/08.

WYOMING

Weston County

Toomey's Mills, 500 W. Main St., Newcastle, 08001062, Listed, 11/13/08.

[FR Doc. E8-30316 Filed 12-19-08; 8:45 am]

BILLING CODE 4310-70-P